SMALL BUSINESS ADMINISTRATION

[License No. 09/71-0378]

Housatonic Equity Investors SBIC, L.P.; Notice Seeking Exemption Under Section 312 of the Small Business Investment Act, Conflicts of Interest

Notice is hereby given that Housatonic Equity Investors SBIC, L.P., 44 Montgomery Street, Suite 4010, San Francisco, CA 94104, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730 (2006)). Housatonic Equity Investors SBIC, L.P. provided equity security financing to ArchivesOne, Inc., 200 Commercial Street, Watertown, CT 06795. The financing is contemplated for operating expenses and general corporate purposes.

The financing is brought within the purview of § 107.730(a)(1) of the Regulations because Housatonic Equity Investors, L.P., an Associate of Housatonic Equity Investors SBIC, L.P., owns more than ten percent of ArchivesOne, Inc.. Therefore, ArchivesOne, Inc. is also considered an Associate of Housatonic Equity Investors SBIC, L.P. as defined at 13 CFR 107.50 of the SBIC Regulations.

Notice is hereby given that any interested person may submit written comments on the transaction to the Associate Administrator for Investment, U.S. Small Business Administration, 409 3rd Street, SW., Washington, DC 20416.

Jaime Guzmán-Fournier,
Associate Administrator for Investment.

[FR Doc. E6-21800 Filed 12-20-06; 8:45 am]

BILLING CODE 8025-01-P